DEPARTMENT OF COMMERCE

International Trade Administration

[C-489-825]

Heavy Walled Rectangular Welded Carbon Steel Pipes and Tubes From the Republic of Turkey: Postponement of Preliminary Determination in the Countervailing Duty Investigation

AGENCY: Enforcement and Compliance, International Trade Administration, Department of Commerce.

DATES: Effective Date: October 15, 2015.

FOR FURTHER INFORMATION CONTACT: Reza Karamloo at (202) 482-4470 or Rebecca Trainor at (202) 482-4007, AD/CVD Operations, Enforcement and Compliance, International Trade Administration, Department of Commerce, 14th Street and Constitution Avenue NW., Washington, DC 20230.

SUPPLEMENTARY INFORMATION:

Background

On August 10, 2015, the Department of Commerce (the Department) initiated the countervailing duty (CVD) investigation of heavy walled rectangular welded carbon steel pipes and tubes from the Republic of Turkey.¹ Currently, the preliminary determination is due no later than October 14, 2015.

¹ See Heavy Walled Rectangular Welded Carbon Steel Pipes and Tubes from the Republic of Turkey: Initiation of Countervailing Duty Investigation, 80 FR 49207 (August 17, 2015).

Postponement of the Preliminary Determination

Section 703(b)(1) of the Tariff Act of 1930, as amended (the Act), requires the Department to issue the preliminary determination in a CVD investigation within 65 days after the date on which the Department initiated the investigation. However, if the Department concludes that the parties concerned are cooperating, and that the case is extraordinarily complicated such that additional time is necessary to make the preliminary determination, section 703(c)(1)(B) of the Act allows the Department to postpone making the preliminary determination until no later than 130 days after the date on which the administering authority initiated the investigation. We have concluded that the parties concerned are cooperating and that the case is extraordinarily complicated, such that we need more time to make the preliminary determination. Specifically, the analysis will involve not only the usual consideration of financial contribution and specificity for numerous programs, but will also involve the more complex consideration of the provision for less than adequate remuneration for several inputs. The deadline for completion of the preliminary determination is now December 18, 2015.

We also note that, on September 30, 2015, the petitioners ² in this investigation, requested that the deadline for the preliminary determination be postponed to 130 days from the date of initiation in accordance with 19 CFR 351.205(b)(2).

² The petitioners are Atlas Tube, a division of JMC Steel Group, Bull Moose Tube Company, EXLTUBE, Hannibal Industries, Inc., Independence Tube Corporation, Maruichi American Corporation, Searing Industries, Southland Tube, and Vest, Inc.

This notice is issued and published pursuant to section 703(c)(2) of the Act and 19 CFR 351.205(f)(l).³

³ We acknowledge that the Department inadvertently did not notify the parties to this investigation of this postponement within the timeframe provided in section 703(c)(2) of the Act.

Dated: October 7, 2015.
Paul Piquado,
Assistant Secretary for Enforcement and Compliance.

[FR Doc. 2015-26274 Filed 10-14-15; 8:45 am]

BILLING CODE 3510-DS-P